DEPARTMENT OF THE INTERIOR

Bureau of Land Management

[ES-930-04-1310-MSES 047099]

Proposed Reinstatement of Terminated Oil and Gas Lease, Mississippi

AGENCY: Bureau of Land Management, Interior.

ACTION: Notice.

SUMMARY: Under the provisions of Public Law 97-451, a petition for reinstatement of oil and gas lease, MSES 047099, Forrest County, Desoto N.F., Mississippi, was timely filed and accompanied by all required rentals and royalties. No valid lease has been issued affecting the lands. The lessee has agreed to new lease terms for rental and royalties at rates of $10 per acre and 16⅔ percent. Payment of $500 in administrative fees and a $155 publication fee has been made.

FOR FURTHER INFORMATION, CONTACT: Ann Dickerson, Land Law Examiner, BLM Eastern States Office, 7450 Boston Boulevard, Springfield, Virginia at (703) 440-1512.

SUPPLEMETARY INFORMATION: The Bureau of Land Management is proposing to reinstate the lease effective the date of termination, May 1, 2002, subject to the original terms and conditions of the lease and the increased rental and royalty rates cited above. This is in accordance with section 31(d) and (e) of the Mineral Leasing Act of 1920, as amended (30 U.S.C. 199(d) and (e)).

Dated: April 14, 2004.
Michael D. Nedd,
State Director.

[FR Doc. 04-12754 Filed 6-4-04; 8:45 am]

BILLING CODE 4310-GJ-P